DEPARTMENT OF THE INTERIOR

National Park Service

[NPS-SER-BICY-18394; PPSEBICY00, PPMPSPD1Z.YM0000]

Cancellation of the Big Cypress National Preserve Off-Road Vehicle Advisory Committee Meeting

AGENCY: National Park Service, Interior.

ACTION: Notice; cancellation of meeting.

SUMMARY: In accordance with the Federal Advisory Committee Act (5 U.S.C. Appendix 1-16), notice is hereby given that the June 16, 2015, meeting of the Big Cypress National Preserve Off-Road Vehicle Advisory Committee previously announced in the Federal Register, Vol. 80, April 1, 2015, p. 17486, is cancelled.

FOR FURTHER INFORMATION CONTACT: J.D. Lee, Acting Superintendent, Big Cypress National Preserve, 33100 Tamiami Trail East, Ochopee, Florida 34141-1000, or via telephone (239) 695-1103.

SUPPLEMENTARY INFORMATION: The Committee was established (Federal Register, Vol. 72, August 1, 2007, pp. 42108-42109) pursuant to the Preserve's 2000 Recreational Off-Road Vehicle Management Plan and the Federal Advisory Committee Act of 1972 (5 U.S.C. Appendix 1-16) to examine issues and make recommendations regarding the management of off-road vehicles in the Preserve. The agendas for these meetings are published by press release and on the http://www.nps.gov/bicy/parkmgmt/orv-advisory-committee.htm Web site.

Dated: June 9, 2015.
Shirley Sears,
Acting Chief, Office of Policy.

[FR Doc. 2015-14463 Filed 6-11-15; 8:45 am]

BILLING CODE 4310-EE-P